Title 3—

The President

Proclamation 9384 of December 23, 2015

To Modify the Harmonized Tariff Schedule of the United States

By the President of the United States of America

A Proclamation

1. On September 9, 2012, leaders of the 21 Asia-Pacific Economic Cooperation (APEC) economies agreed to reduce applied tariff rates to 5 percent or less by the end of 2015 on 54 environmental goods. On November 19, 2015, leaders of the APEC economies reaffirmed that commitment.

2. Section 103(a) of the Bipartisan Congressional Trade Priorities and Accountability Act of 2015 (19 U.S.C. 4202(a)), authorizes the President, under certain circumstances, to proclaim such modification of any existing duty as the President determines to be required or appropriate to carry out an agreement entered into in accordance with section 103(a). The President may proclaim such modification provided that the modification does not reduce the rate of duty to a rate that is less than 50 percent of the rate of such duty that applied on June 29, 2015.

3. Section 502 of the Protecting Americans from Tax Hikes Act of 2015 authorizes the President to exercise the authority under section 103(a)(1)(B) of the Bipartisan Congressional Trade Priorities and Accountability Act of 2015 to implement an agreement by members of APEC to reduce any rate of duty on certain environmental goods included in Annex C of the APEC Leaders' Declaration issued on September 9, 2012.

4. The United States applies duties to imports of certain environmental goods included in Annex C of the APEC Leaders' Declaration issued on September 9, 2012, of 8 percent, 5.6 percent, and 6.7 percent, the same rates that applied on June 29, 2015. On September 9, 2012, the United States agreed to cut applied duties on these environmental goods to 5 percent. The United States reaffirmed that commitment on November 19, 2015.

5. Section 604 of the Trade Act of 1974 (the “1974 Act”) (19 U.S.C. 2483) authorizes the President to embody in the Harmonized Tariff Schedule of the United States (HTS) the substance of the relevant provisions of that Act, and of other Acts affecting import treatment, and actions thereunder, including removal, modification, continuance, or imposition of any rate of duty or other import restriction.

NOW, THEREFORE, I, BARACK OBAMA, President of the United States of America, by virtue of the authority vested in me by the Constitution and the laws of the United States of America, including but not limited to section 103(a) of the Bipartisan Congressional Trade Priorities and Accountability Act of 2015, section 502 of the Protecting Americans from Tax Hikes Act of 2015, and section 604 of the 1974 Act, do proclaim that:

(1) In order to reduce the applied tariff rates of the United States to the level agreed upon by APEC leaders, the HTS is modified as set forth in the Annex to this proclamation.

(2) The modifications to the HTS set forth in the Annex to this proclamation shall be effective with respect to goods entered, or withdrawn from warehouse for consumption, on or after December 31, 2015.

IN WITNESS WHEREOF, I have hereunto set my hand this twenty-third day of December, in the year of our Lord two thousand fifteen, and of the Independence of the United States of America the two hundred and fortieth.

Billing code 3295-F6-P

[FR Doc. 2015-32853

Filed 12-28-15; 8:45 am]

Billing code 7020-02-C